FEDERAL COMMUNICATIONS COMMISSION

[OMB 3060-1242]

Information Collection Approved by the Office of Management and Budget

AGENCY: Federal Communications Commission.

ACTION: Notice.

SUMMARY: The Federal Communications Commission (Commission) has received Office of Management and Budget (OMB) approval, on an emergency basis, for a new, one-time information collection pursuant to the Paperwork Reduction Act of 1995. An agency may not conduct or sponsor a collection of information unless it displays a currently valid OMB control number, and no person is required to respond to a collection of information unless it displays a currently valid control number. Comments concerning the accuracy of the burden estimates and any suggestions for reducing the burden should be directed to the person listed in the FOR FURTHER INFORMATION CONTACT section below.

FOR FURTHER INFORMATION CONTACT: Cathy Williams, Cathy.Williams@fcc.gov, (202) 418-2918.

SUPPLEMENTARY INFORMATION: The total annual reporting burdens and costs for the respondents are as follows:

OMB Control Number: 3060-1242.

OMB Approval Date: September 27, 2017.

OMB Expiration Date: March 31, 2018.

Title: Qualified 4G LTE Coverage Data Collection for Mobility Fund Phase II.

Form Number: N/A.

Respondents: Business or other for-profit entities, not-for-profit institutions, and state, local or tribal governments.

Number of Respondents and Responses: 50 respondents; 50 responses.

Estimated Time per Response: 64 hours.

Frequency of Response: One-time reporting requirement.

Total Annual Burden: 3,200 hours.

Total Annual Cost: None.

Obligation To Respond: Required to obtain or retain benefits. Statutory authority for the currently approved information collection is contained in sections 154, 254, and 303(r) of the Communications Act, as amended, 47 U.S.C. 4, 254, 303(r).

Nature and Extent of Confidentiality: The information collected under this collection is confidential and will not be made publicly available.

Privacy Act Impact Assessment: No impact(s).

Needs and Uses: In 2011, the Commission established the Mobility Fund, which consists of two phases. Mobility Fund Phase I provided one-time universal service support payments to immediately accelerate deployment of mobile broadband services. Mobility Fund Phase II (MF-II) will use a reverse auction to provide ongoing universal service support payments to continue to advance deployment of such services. In its February 2017 Mobility Fund II Report and Order (MF-II Report and Order) (FCC 17-11), the Commission adopted the rules and framework for moving forward expeditiously with the MF-II auction and stated that, prior to the auction, it would establish a map of areas presumptively eligible for MF-II support based on the most recently available FCC Form 477 mobile wireless coverage data, and provide a limited timeframe for parties to challenge those initial determinations during the pre-auction process. In its August 2017 Order on Reconsideration and Second Report and Order (FCC 17-102), the Commission, among other things, reconsidered its earlier decision to use FCC Form 477 data to compile the map of areas presumptively eligible for MF-II support. The Commission decided it would instead conduct a new, one-time data collection of 4G LTE coverage data that will be used for this purpose, concluding that for purposes of implementing MF-II expeditiously, this approach will provide the Commission and interested parties with the best available starting point for the challenge process and should result in fewer and more narrowly-focused challenges regarding representations of coverage. The information collected under this collection will be used by the Commission to compile the map of areas presumptively eligible for MF-II support.

The Commission received approval from OMB for the information collection requirements contained in OMB 3060-1242 on September 27, 2017.

Federal Communications Commission.
Marlene H. Dortch,
Secretary, Office of the Secretary.

[FR Doc. 2017-21482 Filed 10-4-17; 8:45 am]

BILLING CODE 6712-01-P